DEPARTMENT OF ENERGY

Federal Energy Regulatory Commission

Combined Notice of Filings #1

Take notice that the Commission received the following electric corporate filings:

Docket Numbers: EC17-158-000.

Applicants: CPV Towantic, LLC, Towantic Energy Holdings, LLC, Aircraft Services Corporation.

Description: Application for Authorization under Section 203 of the Federal Power Act and Request for Waivers, Confidential Treatment, Expedited Action and Shortened Comment Period of CPV Towantic, LLC, et al.

Filed Date: 8/15/17.

Accession Number: 20170815-5095.

Comments Due: 5 p.m. ET 9/5/17.

Take notice that the Commission received the following electric rate filings:

Docket Numbers: ER11-4506-002.

Applicants: Devonshire Energy LLC.

Description: Notification of Change in Status of Devonshire Energy LLC.

Filed Date: 8/14/17.

Accession Number: 20170814-5205.

Comments Due: 5 p.m. ET 9/5/17.

Docket Numbers: ER17-1315-002; ER17-1318-001; ER17-1316-001.

Applicants: Meadow Lake Wind Farm V LLC, Redbed Plains Wind Farm LLC, Quilt Block Wind Farm LLC.

Description: Notice of Non-Material Change in Status of Meadow Lake Wind Farm V LLC, et. al.

Filed Date: 8/14/17.

Accession Number: 20170814-5203.

Comments Due: 5 p.m. ET 9/5/17.

Docket Numbers: ER17-1619-001.

Applicants: PJM Interconnection, L.L.C.

Description: Tariff Amendment: Response to Deficiency Notice to be effective 7/18/2017.

Filed Date: 8/14/17.

Accession Number: 20170814-5154.

Comments Due: 5 p.m. ET 9/5/17.

Docket Numbers: ER17-1717-001.

Applicants: Dynegy Conesville, LLC.

Description: Tariff Amendment: Response to Deficiency Letter to be effective 5/9/2017.

Filed Date: 8/14/17.

Accession Number: 20170814-5169.

Comments Due: 5 p.m. ET 9/5/17.

Docket Numbers: ER17-1718-001.

Applicants: Dynegy Dicks Creek, LLC.

Description: Tariff Amendment: Response to Deficiency Letter to be effective 8/1/2017.

Filed Date: 8/14/17.

Accession Number: 20170814-5175.

Comments Due: 5 p.m. ET 9/5/17.

Docket Numbers: ER17-1719-001.

Applicants: Dynegy Killen, LLC.

Description: Tariff Amendment: Response to Deficiency Letter to be effective 8/1/2017.

Filed Date: 8/14/17.

Accession Number: 20170814-5176.

Comments Due: 5 p.m. ET 9/5/17.

Docket Numbers: ER17-1720-001.

Applicants: Dynegy Miami Fort, LLC.

Description: Tariff Amendment: Response to Deficiency Letter to be effective 8/1/2017.

Filed Date: 8/14/17.

Accession Number: 20170814-5177.

Comments Due: 5 p.m. ET 9/5/17.

Docket Numbers: ER17-1721-001.

Applicants: Dynegy Stuart, LLC.

Description: Tariff Amendment: Response to Deficiency Letter to be effective 8/1/2017.

Filed Date: 8/14/17.

Accession Number: 20170814-5182.

Comments Due: 5 p.m. ET 9/5/17.

Docket Numbers: ER17-1722-001.

Applicants: Dynegy Zimmer, LLC.

Description: Tariff Amendment: Response to Deficiency Letter to be effective 8/1/2017.

Filed Date: 8/14/17.

Accession Number: 20170814-5184.

Comments Due: 5 p.m. ET 9/5/17.

Docket Numbers: ER17-2307-000.

Applicants: Midcontinent Independent System Operator, Inc.

Description: § 205(d) Rate Filing: 2017-08-15_Termination of SA 2758 NSP-Trishe Wind E&P Agreement (J288) to be effective 8/16/2017.

Filed Date: 8/15/17.

Accession Number: 20170815-5000.

Comments Due: 5 p.m. ET 9/5/17.

Docket Numbers: ER17-2308-000.

Applicants: Puget Sound Energy, Inc.

Description: Puget Sound Energy, Inc. submits Average System Cost Filing for Sales of Electric Power to the Bonneville Power Administration, FY 2018-2019.

Filed Date: 8/15/17.

Accession Number: 20170815-5085.

Comments Due: 5 p.m. ET 9/5/17.

Docket Numbers: ER17-2309-000.

Applicants: PJM Interconnection, L.L.C.

Description: § 205(d) Rate Filing: Amendment to WMPA No. 4054; Queue Z2-030 to be effective 11/25/2014.

Filed Date: 8/15/17.

Accession Number: 20170815-5094.

Comments Due: 5 p.m. ET 9/5/17.

Docket Numbers: ER17-2310-000.

Applicants: PJM Interconnection, L.L.C.

Description: § 205(d) Rate Filing: Wholesale Market Participation Agreement No. 4772; Queue AC1-013 to be effective 8/14/2017.

Filed Date: 8/15/17.

Accession Number: 20170815-5101.

Comments Due: 5 p.m. ET 9/5/17.

Docket Numbers: ER17-2311-000.

Applicants: California Independent System Operator Corporation.

Description: § 205(d) Rate Filing: 2017-08-15 Certificate of Concurrence for the UC Regents LGIA to be effective 7/27/2017.

Filed Date: 8/15/17.

Accession Number: 20170815-5119.

Comments Due: 5 p.m. ET 9/5/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 15, 2017.
Nathaniel J. Davis, Sr.,
Deputy Secretary.

[FR Doc. 2017-17800 Filed 8-22-17; 8:45 am]

BILLING CODE 6717-01-P